DEPARTMENT OF DEFENSE

Department of the Army

Armed Forces Institute of Pathology Scientific Advisory Board

AGENCY: Department of the Army, DoD.

ACTION: Notice of partially-closed meeting.

SUMMARY: In accordance with 10(a)(2) of the Federal Advisory Committee Act (Pub. L. 92-463) announcement is made of the following open meeting:

Name of Committee: Scientific Advisory Board (SAB).

Dates of Meeting: November 13-14, 2003.

Place: The Armed Forces Institute of Pathology (AFIP), Building 54, 14th St. & Alaska Ave., NW, Washington, DC 20306-6000 and Dover Air Force Base (AFB), DE.

Time: 8 a.m.-5 p.m. (November 13, 2003). 8:30 a.m.-12 p.m. (November 14, 2003).

FOR FURTHER INFORMATION CONTACT: Mr. Ridgely Rabold, Office of the Principal Deputy Director (PDD), AFIP, Building 54, Washington, D.C. 20306-6000, phone (202) 782-2553.

SUPPLEMENTARY INFORMATION:

General function of the board: The SAB provides scientific and professional advice and guidance on programs, policies and procedures of the AFIP.

Agenda: The Board will hear status reports from the AFIP Director, Principal Deputy Director, and each of the pathology sub-specialty departments, which the Board members will visit during the meeting. The Board will also visit the Dover AFB Mortuary Facility in Delaware during the first day of the meeting.

Open board discussions: Reports will be presented on all visited departments. The reports will consist of findings, recommended areas of further research, improvement, and suggested solutions. New trends and/or technologies will be discussed and goals established. The meeting is open to the public on Friday (Nov. 14) however, due to the security aspects of the Mortuary Facility and the transportation requirements, no visitors will be allowed to accompany the Board for Thursday's (Nov. 13) trip.

Luz D. Ortiz,
Army Federal Register Liaison Officer.

[FR Doc. 03-25183 Filed 10-2-03; 8:45 am]

BILLING CODE 3710-08-M